ENVIRONMENTAL PROTECTION AGENCY

40 CFR Part 300

[FRL-7023-4]

National Oil and Hazardous Substance Pollution Contingency Plan; National Priorities List

AGENCY: Environmental Protection Agency.

ACTION: Proposed notice of intent to delete the Kem-Pest Laboratories Superfund Site from the National Priorities List.

SUMMARY: The Environmental Protection Agency (EPA), Region 7 is issuing a notice of intent to deletion of the Kem-Pest Laboratories Superfund Site, located in Cape Girardeau County, Missouri, from the National Priorities List (NPL) and is only requesting adverse public comment(s) on the direct final notice. The NPL, promulgated pursuant to section 105 of the Comprehensive Environmental Response, Compensation, and Liability Act (CERCLA) of 1980, as amended, is appendix B of 40 CFR part 300, which is the National Oil and Hazardous Substances Pollution Contingency Plan. The EPA and the state of Missouri, through the Missouri Department of Natural Resources, has determined that all appropriate response actions under CERCLA have been completed. However, this deletion does not preclude future actions under Superfund. In the “Rules and Regulations” section of today's Federal Register, we are publishing a direct final notice of deletion of the Kem-Pest Laboratories Superfund Site without prior notice of intent to delete because we view this as a noncontroversial revision and anticipate no adverse comment. We have explained our reasons for this deletion in the preamble to the direct final deletion. If we receive no adverse comments(s) on the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by September 5, 2001.

ADDRESSES: Written comments should be addressed to Hattie Thomas, Community Involvement Coordinator, U.S. EPA, Region 7, Office of External Programs, 901 N. 5th Street, Kansas City, Kansas 66101, or at (913) 551-7003 or toll free at 1-800-223-0425.

FOR FURTHER INFORMATION CONTACT: Victor A. Lyke, Remedial Project Manager (RPM) at U.S. EPA, Region 7, Superfund Division, 901 N. 5th Street, Kansas City, Kansas, 66101 or (913) 551-7256 or toll free at 1-800-223-0425.

SUPPLEMENTARY INFORMATION: For additional information, see the Direct Final Notice of Deletion which is located in the Rules section of this Federal Register.

Information Repositories: Repositories have been established to provide detailed information concerning this decision at the following addresses: U.S. EPA, Region 7 Superfund Records Center, 901 N. 5th Street, Kansas City, Kansas 66101 and Cape Girardeau Public Library 711 N. Clark Street, Cape Girardeau, Missouri 63701.

List of Subjects in 40 CFR Part 300

Environmental protection, Air pollution control, Chemicals, Hazardous waste, Hazardous substances, Intergovernmental relations, Penalties, Reporting and recordkeeping requirements, Superfund, Water pollution control, Water supply.

Authority: 33 U.S.C.1321(c)(2); 42 U.S.C. 9601-9657; E.O. 12777, 56 FR 54757, 3 CFR, 1991 Comp., p. 351; E.O. 12580, 52 FR 2923, 3 CFR, 1987 Comp., p. 193.

Dated: July 24, 2001.
William Rice,
Acting Regional Administrator, Region 7.

[FR Doc. 01-19319 Filed 8-3-01; 8:45 am]

BILLING CODE 6560-50-P